DEPARTMENT OF HEALTH AND HUMAN SERVICES

Administration for Children and Families

Submission for OMB Review; Comment Request

Title: Runaway and Homeless Youth Management Information System (RHYMIS) Version 3.0.

OMB No.: 0970-0123.

Description: The Runaway and Homeless Youth Act, as amended by Public Law 106-71 (42 U.S.C. 5701 et seq.), mandates that the Department of Health and Human Services (HHS) report regularly to Congress on the status of HHS-funded programs serving runaway and homeless youth. Such reporting is similarly mandated by the Government Performance and Results Act. Organizations funded under the Runaway and Homeless Youth program are required by statute (42 U.S.C. 5712, 42 U.S.C. 5714-2) to meet certain data collection and reporting requirements. These requirements include maintenance of client statistical records on the number and the characteristics of the runaway and homeless youth, and youth at risk of family separation, who participate in the project, and the services provided to such youth by the project.

Respondents: States localities, private entities and coordinated networks of such entities. Typical respondents are non-profit community based organizations who are reporting on the youth that they serve through their Basic Center, Transitional Living and Street Outreach programs.

Annual Burden Estimates
Instrument | Number of respondents * | Number of responses per respondent | Average burden hours per response | Total burden hours
Youth Profile: Basic Center Program (one for each youth) | 321 | 115 | 0.20 | 7383
Youth Profile: Transitional Living Program (one for each youth) | 205 | 19 | 0.250 | 974
Youth Profile: Street Outreach Program (one for each youth) | 138 | 524 | 0.073 | 5279
Brief Agency Contacts Report ** (3 data elements per youth) | 664 | 865 | 0.05 | 28718
Data Transfer | 664 | 2 | 0.50 | 664
* Number of respondents and response estimates are based on FY 2013 grantee award and annual youth service volumes (the number of grantees awarded and their service volumes change from year to year but not greatly).
** Brief Agency Contacts Report is a new report that combines the elements of the Street Outreach Contacts, Turnaway/Waitlist and Brief Contacts reports that were previously in place.

Estimated Total Annual Burden Hours: 43,018.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Robert Sargis,
Reports Clearance Officer.

[FR Doc. 2014-20594 Filed 8-28-14; 8:45 am]

BILLING CODE 4184-01-P